DEPARTMENT OF LABOR

Office of Workers' Compensation Programs

Proposed Collection of Information; Comment Request

AGENCY: Division of Coal Mine Workers' Compensation, Office of Workers' Compensation Programs, Department of Labor.

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995. This program helps to ensure that requested data can be provided in the desired format, reporting burden (time and financial resources) is minimized, collection instruments are clearly understood, and the impact of collection requirements on respondents can be properly assessed. Currently, the Office of Workers' Compensation Programs (OWCP) is soliciting comments concerning the proposed collection: Application For Self-Insurance Under The Black Lung Benefits Act, 1240-0NEW (CM-2017; CM-2017a; CM-2017b). A copy of the proposed information collection request can be obtained by contacting the office listed below in the addresses section of this Notice.

DATES: Written comments must be received by the office listed in the addresses section below by December 29, 2017.

ADDRESSES: You may submit comments by mail, delivery service, or by hand to Ms. Yoon Ferguson, U.S. Department of Labor, 200 Constitution Ave. NW., Room S-3323, Washington, DC 20210; by fax to (202) 354-9647; or by Email to ferguson.yoon@dol.gov. Please use only one method of transmission for comments (mail/delivery, fax, or Email). Please note that comments submitted after the comment period will not be considered.

SUPPLEMENTARY INFORMATION:

I. Background: The Department of Labor is requesting an approval of a new information collection. This information collection is essential to the mission of OWCP's Division of Coal Mine Workers' Compensation, which administers the Black Lung Benefits Act (BLBA), 30 U.S.C. 901 et seq. The statute grants the Department authority to authorize and regulate coal mine operators who wish to self-insure their BLBA liabilities. 30 U.S.C. 933. This information collection would provide OWCP with sufficient information to determine whether a coal mine operator should be (or continue to be) authorized to self-insure. The information would also allow OWCP to determine the security amount a coal mine operator must deposit to guarantee that it will be able to meet its BLBA liabilities.

II. Review Focus: The Department is particularly interested in comments that will help it to:

* Evaluate whether the proposed collection of information is necessary for the proper performance of the functions of the agency, including whether the information will have practical utility;

* evaluate the accuracy of the agency's estimate of the burden of the proposed collection of information, including the validity of the methodology and assumptions used;

* enhance the quality, utility and clarity of the information to be collected; and

* minimize the burden of the collection of information on those who are to respond, including through the use of appropriate automated, electronic, mechanical, or other technological collection techniques or other forms of information technology, e.g., permitting electronic submissions of responses.

III. Current Actions: The Department seeks the approval of this new information collection to carry out its responsibility to administer the BLBA.

Agency: Office of Workers' Compensation Programs.

Type of Review: New Collection (Request for New OMB Control Number).

Title: Application For Self-Insurance Under the Black Lung Benefits Act, 1240-0NEW (CM-2017; CM-2017a; CM-2017b).

OMB Number: 1240-0NEW.

Agency Number: CM-2017; CM-2017a; CM-2017b.

Affected Public: Business entities or other for-profit institutions.

Total Respondents: 53.

Total Annual Responses: 318.

Average Time per Response: 20 minutes-2 hours.

Estimated Total Burden Hours: 283.

Frequency: Annually and quarterly.

Total Burden Cost (operating/maintenance): $137.47.

Comments submitted in response to this notice will be summarized and/or included in the request for Office of Management and Budget approval of the information collection request; they will also become a matter of public record.

Dated: October 24, 2017.
Yoon Ferguson,
Agency Clearance Officer, Office of Workers' Compensation Programs, U.S. Department of Labor.

[FR Doc. 2017-23551 Filed 10-27-17; 8:45 am]

BILLING CODE 4510-CK-P